Proclamation 8946 of March 25, 2013

Establishment of the Río Grande del Norte National Monument

By the President of the United States of America

A Proclamation

In far northern New Mexico, the Río Grande Wild and Scenic River flows through a deep gorge at the edge of the stark and sweeping expanse of the Taos Plateau. Volcanic cones, including the Cerro de la Olla, Cerro San Antonio, and Cerro del Yuta, jut up from this surrounding plateau. Canyons, volcanic cones, wild rivers, and native grasslands harbor vital wildlife habitat, unique geologic resources, and imprints of human passage through the landscape over the past 10,000 years. This extraordinary landscape of extreme beauty and daunting harshness is known as the Río Grande del Norte, and its extraordinary array of scientific and historic resources offer opportunities to develop our understanding of the forces that shaped northern New Mexico, including the diverse ecological systems and human cultures that remain present today.

For millennia, humans have seasonally passed through the Río Grande del Norte, gathering resources and finding spiritual meaning in its dramatic geologic features. Although few have attempted to live year-round in this harsh landscape, the images carved into the gorge's dark basalt cliffs and the artifacts scattered across the forested slopes of the volcanic cones bear ample testimony to the human use of the area.

The Río Grande gorge lies within the traditional area of the nearby Taos and Picuris Pueblos, as well as the Jicarilla Apache and Ute Tribes, and hosts a dazzling array of rock art. Carved into the boulders and cliffs are hundreds of images ranging from seemingly abstract swirls and dots to clear depictions of human and animal figures. Dense collections of petroglyphs are found near the hot springs that bubble up in the deep heart of the gorge, with some dating back to the Archaic Period (ca. 7,500 B.C.-500 A.D.). In addition to petroglyphs, these lands harbor small hunting blinds, pit houses, chipping stations, potsherds, tools and projectile points, as well as large ceramic vessels. The area is home to a rich array of archaeological resources that represent diverse cultural traditions. Archeological resources are found throughout the proposed monument, with its rugged terrain serving as the focal point for ongoing archaeological research. More recent artifacts and images mark the passage of settlers and Hispanic explorers dating back to the early 18th century. Ongoing explorations and inquiries of this unique cultural landscape have resulted in continuous discoveries that further illuminate northern New Mexico's human history.

Separated from the Río Grande Wild and Scenic River by a broad swath of sagebrush and grassland, the Río San Antonio gorge is another area of concentrated artifact and petroglyph sites. People were drawn to this area by the flowing water, hunting opportunities, and nearby San Antonio Mountain, which is thought to have been a major regional source for the dacite used by nomadic peoples to create stone tools thousands of years ago. This corner of the Río Grande del Norte landscape was traversed by traders and other travelers during the 18th and 19th centuries, who traded furs and other goods and later brought woolen articles from New Mexico's sheep grazing communities to markets throughout the Southwest.

Between the Río Grande gorge and the Río San Antonio gorge stretches a sweeping and austere expanse of the Taos Plateau. The Río Grande del Norte landscape is a testament to the geologic past of New Mexico and the 70 million year tectonic history of the Río Grande Rift, one of the world's major rift systems. Composed of Servilleta lava basalts and rhyolites, the Taos Plateau has long been a center of research in geology and volcanology. Rising in stark contrast from the plateau's broad expanse, Cerro de la Olla, Cerro San Antonio, and other volcanic cones provide visible reminders of the area's volatile past. Cerro del Yuta, or Ute Mountain, the tallest of these extinct volcanoes, rises above the plateau to an elevation topping 10,000 feet. Springs within the Río Grande gorge have been measured emitting 6,000 gallons of water per minute into the river bed and are thought to be part of a flooded lava tube system.

This northern New Mexico landscape also exhibits significant ecological diversity in these different geologic areas. From the cottonwood and willows along the Río Grande corridor, to the expansive sagebrush plains above the gorge on the Taos Plateau, the piñons at the base of Ute Mountain, and the spruce, aspen, and Douglas fir covering the mountain's northern slopes, the diversity of both ecosystems and species allows for, and has been the subject of, substantial scientific research.

The Río Grande gorge connects the northern reaches of the river's watershed with its middle and lower stretches. Deep within the gorge, beneath soaring cliffs that rise hundreds of feet above the river, stands of willow and cottonwood thrive in riparian and canyon ecosystems that have been present since the river first appeared in the Río Grande Rift Valley. The river provides habitat for fish such as the Río Grande cutthroat trout as well as the recently reintroduced North American river otter. The Río Grande del Norte is part of the Central Migratory Flyway, a vital migration corridor for birds such as Canada geese, herons, sandhill cranes, hummingbirds, and American avocets. Several species of bats make their home in the gorge, which also provides important nesting habitat for golden eagles and numerous other raptor species, as well as habitat for the endangered southwestern willow flycatcher.

Bald eagles roost above the river in winter and fly out over the Taos Plateau's sagebrush shrub habitat and native grasslands, which stretch for thousands of acres to the west. The vast plateau harbors a significant diversity of mammals and birds, from the eagles, hawks, falcons, and owls soaring above the plateau to the small mammals on which they prey. Many other bird species, including Merriam's turkey, scaled quail, mourning dove, mountain plover, and loggerhead shrike, can be seen or heard on the plateau. Large mammals, including the Rocky Mountain elk, mule deer, pronghorn, and Rocky Mountain bighorn sheep, find their winter homes on the plateau alongside a population of rare Gunnison's prairie dogs. The Río Grande del Norte also provides habitat for many species of predators, including the ringtail, black bear, coyote, red fox, cougar, and bobcat.

While diverse peoples have used this area intermittently for thousands of years, its challenging conditions make it inhospitable for permanent settlement. In an area near the forested slopes of Cerro Montoso, however, a group of eastern homesteaders attempted to make a living in the years immediately following World War I. The nearly forgotten story of this fleeting community, recently revealed through detailed historical research, is written on the landscape by the remnants of homes, root cellars, cistern-style water catchments, and cast metal toys. At one site, researchers have found several World War I brass uniform buttons, evidence of the veterans who once made their homes on this rugged land.

The protection of the Río Grande del Norte will preserve its cultural, prehistoric, and historic legacy and maintain its diverse array of natural and scientific resources, ensuring that the historic and scientific values of this area remain for the benefit of all Americans.

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS it is in the public interest to preserve the objects of scientific and historic interest on the Río Grande del Norte lands;

NOW, THEREFORE, I, BARACK OBAMA, President of the United States of America, by the authority vested in me by section 2 of the Antiquities Act, hereby proclaim, set apart, and reserve as the Río Grande del Norte National Monument (monument), the objects identified above and all lands and interest in lands owned or controlled by the Government of the United States within the boundaries described on the accompanying map, which is attached to and forms a part of this proclamation. These reserved Federal lands and interests in lands encompass approximately 242,555 acres, which is the smallest area compatible with the proper care and management of the objects to be protected.

All Federal lands and interests in lands within the boundaries of this monument are hereby appropriated and withdrawn from all forms of entry, location, selection, sale, leasing, or other disposition under the public land laws, including withdrawal from location, entry, and patent under the mining laws, and from disposition under all laws relating to mineral and geothermal leasing, other than by exchange that furthers the protective purposes of this proclamation.

The establishment of this monument is subject to valid existing rights. Lands and interests in lands within the monument's boundaries not owned or controlled by the United States shall be reserved as part of the monument upon acquisition of ownership or control by the United States.

The Secretary of the Interior (Secretary) shall manage the monument through the Bureau of Land Management (BLM) as a unit of the National Landscape Conservation System, pursuant to applicable legal authorities, including the Wild and Scenic Rivers Act (82 Stat. 906, 16 U.S.C. 1271 et seq.), to implement the purposes of this proclamation.

For purposes of protecting and restoring the objects identified above, the Secretary, through the BLM, shall prepare and maintain a management plan for the monument and shall provide for maximum public involvement in the development of that plan including, but not limited to, consultation with tribal, State, and local governments as well as community land grant and acequia associations.

Except for emergency or authorized administrative purposes, motorized vehicle use in the monument shall be permitted only on designated roads and non-motorized mechanized vehicle use shall be permitted only on designated roads and trails.

Nothing in this proclamation shall be construed to preclude the Secretary from renewing or authorizing the upgrading of existing utility line rights-of-way within the physical scope of each such right-of-way that exists on the date of this proclamation. Additional utility line rights-of-way or upgrades outside the existing utility line rights-of-way may only be authorized if consistent with the care and management of the objects identified above.

Nothing in this proclamation shall be deemed to enlarge or diminish the rights of any Indian tribe or pueblo. The Secretary shall, in consultation with Indian tribes, ensure the protection of religious and cultural sites in the monument and provide access to the sites by members of Indian tribes for traditional cultural and customary uses, consistent with the American Indian Religious Freedom Act (92 Stat. 469, 42 U.S.C. 1996) and Executive Order 13007 of May 24, 1996 (Indian Sacred Sites).

Laws, regulations, and policies followed by the BLM in issuing and administering grazing permits or leases on lands under its jurisdiction shall continue to apply with regard to the lands in the monument, consistent with the purposes of this proclamation.

Nothing in this proclamation shall be construed to alter or affect the Río Grande Compact between the States of Colorado, New Mexico, and Texas, or to create any reservation of water in the monument.

Nothing in this proclamation shall be deemed to enlarge or diminish the jurisdiction of the State of New Mexico with respect to fish and wildlife management.

Nothing in this proclamation shall be construed to preclude the traditional collection of firewood and piñon nuts in the monument for personal non-commercial use consistent with the purposes of this proclamation.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-fifth day of March, in the year of our Lord two thousand thirteen, and of the Independence of the United States of America the two hundred and thirty-seventh.

Billing code 3295-F3

[FR Doc. 2013-07406

Filed 3-27-13; 8:45 am]

Billing code 4310-10-C